ENVIRONMENTAL PROTECTION AGENCY

[EPA-HQ-OPP-2007-0244; FRL-8125-6]

Notice of Receipt of Requests for Amendments to Delete Uses in Certain Pesticide Registrations

AGENCY: Environmental Protection Agency (EPA).

ACTION: Notice.

SUMMARY: In accordance with section 6(f)(1) of the Federal Insecticide, Fungicide, and Rodenticide Act (FIFRA), as amended, EPA is issuing a notice of receipt of request for amendments by registrants to delete uses in certain pesticide registrations. Section 6(f)(1) of FIFRA provides that a registrant of a pesticide product may at any time request that any of its pesticide registrations be amended to delete one or more uses. FIFRA further provides that, before acting on the request, EPA must publish a notice of receipt of any request in the Federal Register.

DATES: The deletions are effective by October 22, 2007 or May 25, 2007 for registrations for which the registrant requested a waiver of the 180-day comment period. The Agency will consider withdrawal requests postmarked no later than October 22, 2007 or May 25, 2007, whichever is applicable. Comments must be received on or before October 22, 2007 or May 25, 2007, for those registrations where the 180-day comment period has been waived.

Users of these products who desire continued use on crops or sites being deleted should contact the applicable registrant on or before October 22, 2007 or May 25, 2007 for registrations for which the registrant requested a waiver of the 180-day comment period.

ADDRESSES: Submit your withdrawal request, identified by docket identification (ID) number EPA-HQ-OPP-2007-0244, by one of the following methods:

• Mail: Attention: John Jamula, Information Technology and Resources Management Division (7502P), Office of Pesticide Programs, Environmental Protection Agency, 1200 Pennsylvania Ave., NW., Washington, DC 20460-0001.

• Delivery: OPP Regulatory Public Docket (7502P), Environmental Protection Agency, Rm. S-4400, One Potomac Yard (South Building), 2777 S. Crystal Drive, Arlington, VA. Deliveries are only accepted during the Docket's normal hours of operation (8:30 a.m. to 4 p.m., Monday through Friday, excluding legal holidays). Special arrangements should be made for deliveries of boxed information. The Docket telephone number is (703) 305-5805.

FOR FURTHER INFORMATION CONTACT: John Jamula, Information Technology and Resources Management Division (7502P), Office of Pesticide Programs, Environmental Protection Agency, 1200 Pennsylvania Ave., NW., Washington, DC 20460-0001; telephone number: (703) 305-6426; e-mail address: jamula.john@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established a docket for this action under docket identification (ID) number EPA-HQ-OPP-2007-0244 Publicly available docket materials are available either in the electronic docket at http://www.regulations.gov, or, if only available in hard copy, at the Office of Pesticide Programs (OPP) Regulatory Public Docket in Rm. S-4400, One Potomac Yard (South Building), 2777 S. Crystal Drive Arlington, VA. The hours of operation of this Docket Facility are from 8:30 a.m. to 4 p.m., Monday through Friday, excluding legal holidays. The Docket telephone number is (703) 305-5805.

2. Electronic access. You may access this Federal Register document electronically through the EPA Internet under the “Federal Register” listings at http://www.epa.gov/fedrgstr.

II. What Action is the Agency Taking?

This notice announces receipt by the Agency of applications from registrants to delete uses in certain pesticide registrations. These registrations are listed in Table 1 of this unit by registration number, product name, active ingredient, and specific uses deleted:

Table 1.—Registrations With Requests for Amendments to Delete Uses in Certain Pesticides
EPA Reg. No. | Product Name | Active Ingredient | Delete From Label
000352-00342 | DuPont Lannate SP Insecticide | Methomyl | Strawberry
000352-00384 | DuPont Lannate LV Insecticide | Methomyl | Strawberry
000432-1288 | Baygon Technical | Propoxur | Crack and Crevice Use
000769-00978 | AllPro Baracide 5PS Pelleted Herbicide | Sodium Chlorate | Right-of-Ways
004787-00033 | Cheminova Methyl Parathion Technical | Methyl Parathion | Cabbage, Dried Beans, Dried Peas, Hops, Lentils, Pecans, and Sugar Beets
066222-00003 | Pyrinex 4EC | Chlorpyrifos | All Fire Ant Uses
066222-00005 | Pyrinex 2E | Chlorpyrifos | All Fire Ant Uses
066222-00006 | Pyrinex 2E Insecticide | Chlorpyrifos | All Fire Ant Uses
066222-00018 | Chlorpyrifos 15G | Chlorpyrifos | All Fire Ant Uses
066222-00019 | Chlorpyrifos 4E AG | Chlorpyrifos | All Fire Ant Uses
073049-00274 | Pyrenone W.B. 5.0 - 0.5 | Pyrethrins | Food Use
073409-00101 | SBP-1382 T.E.C. 6% | Resmethrin | Food Use

Users of these products who desire continued use on crops or sites being deleted should contact the applicable registrant before October 22, 2007 or May 25, 2007 for registrations for which the registrant requested a waiver of the 180-day comment period, to discuss withdrawal of the application for amendment. This time period will also permit interested members of the public to intercede with registrants prior to the Agency's approval of the deletion. A request to waive the 180-day comment period has been received for the following registrations: 432-1288; 769-978;66222-3; 66222-5; 66222-6; 66222-18; 66222-19 4787-33.

Table 2 of this unit includes the names and addresses of record for all registrants of the products listed in Table 1 of this unit, in sequence by EPA company number.

Table 2—Registrants Requesting Amendments to Delete Uses in Certain Pesticide Products
EPA Company no. | Company Name and Address
000352 | E. I. Du Pont De Nemours & Co., Inc., Dupont Crop Protection (s300/427), PO Box 30, Newark, DE 19714-0030
000432 | Bayer Environmental Science, A Business Group of Bayer Cropscience LP, PO Box 12014, Research Triangle Park, NC 27709
000769 | Value Gardens Supply, LlC, d/b/a Value Garden Supply, Po Box 585, Saint Joseph, MO 64502
004787 | Cheminova Inc., Agent For: Cheminova A/S, 1600 Wilson Blvd., Suite 700, Arlington, VA 22209-2510
066222 | Makhteshim-Agan of North America Inc., 4515 Falls of Neuse Rd Ste 300, Raleigh, NC 27609
073049 | Valent Biosciences Corp., 870 Technology Way, Suite 100, Libertyville, IL 60048-6316

III. What is the Agency's Authority for Taking this Action?

Section 6(f)(1) of FIFRA provides that a registrant of a pesticide product may at any time request that any of its pesticide registrations be amended to delete one or more uses. The Act further provides that, before acting on the request, EPA must publish a notice of receipt of any such request in the Federal Register. Thereafter, the Administrator may approve such a request.

IV. Procedures for Withdrawal of Request

Registrants who choose to withdraw a request for use deletion must submit the withdrawal in writing to John Jamula using the methods in ADDRESSES. The Agency will consider written withdrawal requests postmarked no later than October 22, 2007.

V. Provisions for Disposition of Existing Stocks

The Agency has authorized the registrants to sell or distribute product under the previously approved labeling for a period of 18 months after approval of the revision, unless other restrictions have been imposed, as in special review actions.

List of Subjects

Environmental protection, Pesticides and pests.

Dated: April 12, 2007.
Robert Forrest,
Acting Director, Information Technology and Resources Management Division, Office of Pesticide Programs.

[FR Doc. E7-7769 Filed 4-24-07; 8:45 am]

BILLING CODE 6560-50-S